DEPARTMENT OF STATE

[Delegation of Authority 329]

Delegation by the Under Secretary of State for Public Diplomacy and Public Affairs to the Coordinator, Bureau of International Information Programs, or to Any Successor

By virtue of the authority vested in me as the Under Secretary of State for Public Diplomacy and Public Affairs by law, including by Delegation of Authority No. 234 of October 1, 1999, and the Foreign Affairs Reform and Restructuring Act of 1998 (112 Stat. 2681, et seq.), and to the extent authorized by law, I hereby delegate to the Coordinator, Bureau of International Information Programs, or to any successor:

a. The functions and authorities related to the dissemination of information abroad about the United States, and related functions, including those functions in the United States Information and Educational Exchange Act of 1948, as amended (the Smith-Mundt Act) (22 U.S.C. 1431 et seq.), and

b. The functions and authorities in the National Endowment for Democracy Act (22 U.S.C. 4412) relating to the grant program with the National Endowment for Democracy.

The Secretary of State, the Deputy Secretary of State, the Deputy Secretary of State for Management and Resources, and the Under Secretary of State for Public Diplomacy and Public Affairs may at any time exercise the functions and authorities delegated herein. The functions and authorities delegated herein may be further delegated, to the extent consistent with law.

Any actions related to the functions and authorities described herein that may have been taken by the Coordinator prior to the date of this delegation of authority are hereby confirmed and ratified. Such actions shall remain in force as if taken under this delegation of authority, unless or until such actions are rescinded, amended or superseded.

Any reference in this delegation of authority to any statute or delegation of authority shall be deemed to be a reference to such statute or delegation of authority as amended from time to time.

This delegation shall be published in the Federal Register.

Dated: January 12, 2010.
Judith A. McHale,
Under Secretary for Public Diplomacy and Public Affairs.

[FR Doc. 2010-1349 Filed 1-22-10; 8:45 am]

BILLING CODE 4710-11-P